DEPARTMENT OF ENERGY

Federal Energy Regulatory Commission

Combined Notice of Filings

Take notice that the Commission has received the following Natural Gas Pipeline Rate and Refund Report filings:

Filings Instituting Proceedings

Docket Numbers: PR23-6-000.

Applicants: Questar Gas Company.

Description: § 284.123 Rate Filing: Baseline Refile SOC to be effective 12/1/2022.

Filed Date: 11/10/22.

Accession Number: 20221110-5043.

Comment Date: 5 p.m. ET 12/1/22.

Docket Numbers: RP23-178-000.

Applicants: Rockies Express Pipeline LLC.

Description: § 4(d) Rate Filing: REX 2022-11-09 Negotiated Rate Agreement to be effective 11/9/2022.

Filed Date: 11/9/22

Accession Number: 20221109-5095

Comment Date: 5 p.m. ET 11/21/22.

Docket Numbers: RP23-179-000.

Applicants: Trailblazer Pipeline Company LLC.

Description: § 4(d) Rate Filing: TPC 2022-11-09 Negotiated Rate Agreement to be effective 11/9/2022.

Filed Date: 11/9/22.

Accession Number: 20221109-5096.

Comment Date: 5 p.m. ET 11/21/22.

Docket Numbers: RP23-180-000.

Applicants: Eastern Shore Natural Gas Company.

Description: § 4(d) Rate Filing: ESNG Operational Purchases and Sales to be effective 12/10/2022.

Filed Date: 11/10/22.

Accession Number: 20221110-5079.

Comment Date: 5 p.m. ET 11/22/22.

Docket Numbers: RP23-181-000.

Applicants: Trailblazer Pipeline Company LLC.

Description: § 4(d) Rate Filing: TPC 2022-11-10 Negotiated Rate Agreement to be effective 11/10/2022.

Filed Date: 11/10/22.

Accession Number: 20221110-5094.

Comment Date: 5 p.m. ET 11/22/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-824-000.

Applicants: Young Gas Storage Company, Ltd.

Description: Refund Report: Refund Report in Docket No. RP22-824 to be effective N/A.

Filed Date: 11/9/22.

Accession Number: 20221109-5103.

Comment Date: 5 p.m. ET 11/21/22.

Docket Numbers: RP22-825-000.

Applicants: Colorado Interstate Gas Company, L.L.C.

Description: Refund Report: Refund Report in Docket No. RP22-825-000 to be effective N/A.

Filed Date: 11/10/22.

Accession Number: 20221110-5039.

Comment Date: 5 p.m. ET 11/22/22.

Docket Numbers: RP22-825-002.

Applicants: Colorado Interstate Gas Company, L.L.C.

Description: Compliance filing: Correction to Settlement Implementation Compliance Filing to be effective 4/1/2022.

Filed Date: 11/10/22.

Accession Number: 20221110-5090.

Comment Date: 5 p.m. ET 11/22/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2022.
Debbie-Anne A. Reese,
Deputy Secretary.

[FR Doc. 2022-25025 Filed 11-16-22; 8:45 am]

BILLING CODE 6717-01-P